DEPARTMENT OF ENERGY

Federal Energy Regulatory Commission

[Docket No. CP16-473-000]

Texas Eastern Transmission, LP; Notice of Schedule for Environmental Review of the Bayway Lateral Project

On June 29, 2016, Texas Eastern Transmission, LP (Texas Eastern) filed an application in Docket No. CP16-473-000 requesting a Certificate of Public Convenience and Necessity pursuant to Section 7(c) of the Natural Gas Act to construct and operate certain natural gas pipeline facilities. The proposed project is known as the Bayway Lateral Project (Project). The Project would transport an incremental volume of approximately 300,000 dekatherms per day from Texas Eastern's existing Line 38 to serve new commercial customers (the Linden Cogen Power Plant and the Phillips 66 Bayway Refinery).

On July 14, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA: November 23, 2016.

90-day Federal Authorization Decision Deadline: February 21, 2017.

If a schedule change becomes necessary, additional notice will be provided so that the relevant agencies are kept informed of the Project's progress.

Project Description

Texas Eastern proposes to construct, operate, and maintain new pipeline and aboveground facilities in the City of Linden, Union County, New Jersey. The Project would consist of the installation of approximately 2,300 linear feet of 24-inch-diameter pipeline connecting Texas Eastern's existing Line 38 to the Linden Cogen Power Plant and Phillips 66 Bayway Refinery. The Project also includes construction of one new fenced metering and regulating station on the Phillips 66-owned property adjacent to the Linden Cogen Power Plant.

Background

On August 5, 2016, the Commission issued a Notice of Intent to Prepare an Environmental Assessment for the Proposed Bayway Lateral Project and Request for Comments on Environmental Issues (NOI). The NOI was sent to affected landowners; federal, state, and local government agencies; elected officials; environmental and public interest groups; Native American tribes; other interested parties; and local libraries and newspapers. We received one comment in response to our NOI from the U.S. Environmental Protection Agency (EPA). The EPA suggested several additional environmental issues be addressed in the EA, including an analysis of air quality impacts; an evaluation of alternatives, including those outside FERC's jurisdiction; a comprehensive evaluation of cumulative, indirect, and secondary impacts; climate change adaptation; and environmental justice. Consolidated Rail Corporation also filed comments in response to the Notice of Application regarding railroad safety.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-473), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: October 27, 2016.
Kimberly D. Bose,
Secretary.

[FR Doc. 2016-26419 Filed 11-1-16; 8:45 am]

BILLING CODE 6717-01-P